INTERNATIONAL TRADE COMMISSION

[Investigation No. 337-TA-1265]

Notice of a Commission Determination Not To Review an Initial Determination Granting Respondent Icon's Motion To Amend the Notice of Investigation; Certain Fitness Devices, Streaming Components Thereof, and Systems Containing Same

AGENCY: U.S. International Trade Commission.

ACTION: Notice.

SUMMARY: Notice is hereby given that the U.S. International Trade Commission (“Commission”) has determined not to review an initial determination (“ID”) (Order No. 14) of the presiding chief administrative law judge (“CALJ”) granting respondent ICON's motion to amend the notice of investigation (“NOI”).

FOR FURTHER INFORMATION CONTACT: Michael Liberman, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation under section 337 of the Tariff Act of 1930, as amended, 19 U.S.C. 1337 (“section 337”) on May 19, 2021, based on a complaint filed by DISH DBS Corporation of Englewood, Colorado; DISH Technologies, L.L.C., of Englewood, Colorado; and Sling TV L.L.C., of Englewood, Colorado. 86 FR 27106-07 (May 19, 2021). The complaint alleges a violation of section 337 based upon the importation into the United States, the sale for importation, and the sale within the United States after importation of certain fitness devices, streaming components thereof, and systems containing same by reason of infringement of certain claims of U.S. Patent Nos. 9,407,564; 10,469,554; 10,469,555; 10,757,156; and 10,951,680. The notice named as respondents ICON Health & Fitness, Inc., of Logan, Utah (“ICON”); FreeMotion Fitness, Inc., of Logan, Utah; FreeMotion Fitness, Inc., of Logan, Utah; lululemon athletica inc., of Vancouver, Canada; Curiouser Products Inc., of New York, New York; and Peloton Interactive, Inc., of New York, New York. The Commission's Office of Unfair Import Investigations also was named as a party.

On September 24, 2021, pursuant to Commission Rule 210.14(b)(1) (19 CFR 210.14(b)(1)), respondent ICON filed a motion to amend the NOI such “that the name `ICON Health & Fitness, Inc.' be replaced with `iFIT Inc.' ” and a memorandum in support thereof. The motion states that complainants, the named respondents and the Commission investigative attorney do not oppose the pending motion. No response was filed.

On November 4, 2021, the CALJ issued the subject ID granting the motion. Based on the record evidence, the ID finds that good cause exists to change the name of a respondent from ICON Health & Fitness, Inc. to iFIT Inc. ID at 2 (citing Mem. Ex. 1 (document showing respondent ICON Health & Fitness, Inc.'s corporate name change to iFIT Inc.)). The ID further finds that this amendment would not prejudice the public interest or the rights of the parties to the investigation. No party petitioned for review of the ID.

The Commission has determined not to review the subject ID.

The Commission vote for this determination took place on December 6, 2021.

The authority for the Commission's determination is contained in section 337 of the Tariff Act of 1930, as amended (19 U.S.C. 1337), and in Part 210 of the Commission's Rules of Practice and Procedure (19 CFR part 210).

By order of the Commission.
Issued: December 6, 2021.
Lisa Barton,
Secretary to the Commission.

[FR Doc. 2021-26718 Filed 12-9-21; 8:45 am]

BILLING CODE 7020-02-P